NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 5, 2007. (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

SCHEDULES PENDING (Note that the new time period for requesting copies has changed from 45 to 30 days after publication):

1. Department of Agriculture, Cooperative State Research, Education, and Extension Service (N1-540-07-2, 9 items, 9 temporary items). Records relating to invention reporting and patent application, peer panel administration, and routine staff meetings. This schedule authorizes the agency to apply the proposed disposition instructions to any recordkeeping medium.

2. Department of the Army, Agency-wide, (N1-AU-06-8, 3 items, 1 temporary item). System outputs and reports associated with an electronic information system used to track basic human resources information from multiple sources. Data includes names, social security numbers, addresses, promotions, and assignments. The electronic data in this system and related documentation are proposed for permanent retention.

3. Department of the Army, Agency-wide (N1-AU-07-2, 1 item, 1 temporary item). Records relating to individual retiree compensation for combat-related injury or illness. Included are applications, claim forms, physician's reports, Veteran's Administration Disability Rating Decisions, Line of Duty Investigations, and Army Reserves retirement point summaries. This schedule authorizes the agency to apply the proposed disposition instructions to any recordkeeping medium.

4. Department of the Army, Agency-wide (N1-AU-07-7, 4 items, 4 temporary items). Records used to control and manage aircraft, aviation-associated equipment, mission related equipment, and aircraft maintenance. Included are aircraft maintenance registers, parts and equipment exchange tags, preventive maintenance schedules, and ground support equipment maintenance files. This schedule authorizes the agency to apply the proposed disposition instructions to any recordkeeping medium.

5. Department of Commerce, United States Patent and Trademark Office (N1-241-06-1, 2 items, 2 temporary items). Records associated with employee examinations, including test materials, results, rosters, and confidentiality agreements.

6. Department of Commerce, United States Patent and Trademark Office (N1-241-06-2, 4 items, 2 temporary items). Records include trademark case file feeder records, indexes related to the feeder records, and general administrative and short-term subject files associated with data entry, tracking of work production, and extra copies of materials found elsewhere in this records schedule. Proposed for permanent retention are recordkeeping copies of trademark program and policy subject files, and trademark case files and related indexes. This schedule authorizes the agency to apply the proposed disposition instructions to any recordkeeping medium.

7. Department of Defense, Office of the Secretary of Defense (N1-330-06-2, 3 items, 2 temporary items). Master files and outputs associated with an electronic information system used to track changes to the Defense Federal Acquisition Regulation. Data includes workflow tracking data, general comments, meeting notes, discussions, and routine reports. System electronic case files are proposed for permanent retention.

8. Department of Defense, National Geospatial-Intelligence Agency (N1-537-05-2, 13 items, 7 temporary items). Finished intelligence reports and products, briefings, special collections, and imagery derived products maintained by offices other than the office of primary responsibility. Proposed for permanent retention are recordkeeping copies of finished intelligence reports and products, briefings, special collections, and imagery derived products. This schedule authorizes the agency to apply the proposed disposition instructions to any recordkeeping medium.

9. Department of Homeland Security, Transportation Security Administration (N1-560-04-12, 12 items, 10 temporary items). Records of the Office of Intelligence including inputs, outputs, master files, and documentation associated with electronic information systems used to identify information about known or suspected threats to modes of transportation; routine case files; working files; watch logs; published intelligence reports and assessments; and circulars. Proposed for permanent retention are recordkeeping copies of significant case files and briefings, speeches, addresses, and comments.

10. Department of Justice, Federal Bureau of Investigation (N1-65-07-5, 1 item, 1 temporary item). In accordance with the provisions of schedule N1-65-88-3, the agency requests authority to destroy, under a Federal Pre-Trial Diversion Program court order, case number 288A-CO-26047, which pertains to the investigation of the captioned individual.

11. Department of the Treasury, Office of the Comptroller of the Currency (N1-101-07-3, 3 items, 3 temporary items). Records relating to Web site operations including manuals, user logs, user statistics, reports, and content tracking records.

12. Environmental Protection Agency, Region 5 (N1-412-06-1, 7 items, 2 temporary items). FOIA request files and Web site snapshot maintained by EPA Region 5 Water Division's Crandon Project Team. Proposed for permanent retention are recordkeeping copies of Crandon Project Team Coordinator subject files, Crandon Mining Company applications and submissions, records of the Waste Management Permit Branch, Wisconsin Division of Natural Resources reports and studies, and hydrological data on related watersheds.

13. Environmental Protection Agency, Agency-wide (N1-412-07-15, 2 items, 1 temporary item). This schedule authorizes the agency to apply the existing disposition instructions to record series regardless of recordkeeping medium. The records include compliance monitoring and enforcement for controlling toxic substances files. Paper recordkeeping copies of these files were previously approved for disposal. Also included are records relating to enforcement of toxic substances statutes, regulations and standards, for which paper recordkeeping copies previously were approved as permanent.

14. Environmental Protection Agency, Agency-wide (N1-412-07-16, 4 items, 3 temporary items). This schedule authorizes the agency to apply the existing disposition instructions to several record series regardless of recordkeeping medium. The records include documents and letters relating to the development of air and water standards, including submission, progress, and status of clean air standards being enacted into law by states and territories and submitted to EPA for review and approval. Paper recordkeeping copies of these files were previously approved for disposal. Also included are the following records for which paper recordkeeping copies were previously approved as permanent: water standards documents pertaining to the waterways within and bordered by the states and industries within the states, activities relative to the permit program, development of state clean water acts, and enforcement cases.

15. Environmental Protection Agency, Agency-wide (N1-412-07-17, 2 items, 1 temporary item). This schedule authorizes the agency to apply the existing disposition instructions to records series regardless of the recordkeeping medium. The records include documents relating to the interim program for controlling air pollutants. Paper recordkeeping copies of these files were previously approved for disposal. Also included are files relating to the enforcement of industrial and municipal compliance with clean air regulations and standards, for which paper recordkeeping copies previously were approved as permanent.

16. Environmental Protection Agency, Agency-wide (N1-412-07-19, 2 items, 1 temporary item). This schedule authorizes the agency to apply the existing disposition instructions to records series regardless of the recordkeeping medium. The records include documents and data relating to statements of program, guidance, policies, strategies, analysis of state laws, interim and final authorities and statements of Attorney General. Paper recordkeeping copies of these files were previously approved for disposal. Also included are records relating to the enforcement of hazardous waste statutes, regulations, and standards, for which paper recordkeeping copies previously were approved as permanent.

17. Environmental Protection Agency, Agency-wide (N1-412-07-20, 1 item, 1 temporary item). This schedule authorizes the agency to apply the existing disposition instructions to a series of records regardless of the recordkeeping medium. The records include documents and data relating to the control of emissions from automobile engines. Paper recordkeeping copies of these files were previously approved for disposal.

18. Environmental Protection Agency, Agency-wide (N1-412-07-21, 10 items, 10 temporary items). This schedule authorizes the agency to apply the existing disposition instructions to a number of records series regardless of the recordkeeping medium. The records include criminal enforcement counsel files, pesticide program enforcement files, emission control program files, motor vehicle files, and motor vehicle import declaration files. Paper recordkeeping copies of these files were previously approved for disposal.

19. Environmental Protection Agency, Agency-wide (N1-412-07-22, 3 items, 3 temporary items). This schedule authorizes the agency to apply the existing disposition instructions to a number of records series regardless of the recordkeeping medium. The records include sampling and analytical data files, rapid tax amortization files and permit appeal files. Paper recordkeeping copies of these files were previously approved for disposal.

20. National Archives and Records Administration, Government-wide (N1-GRS-07-1, 5 items, 4 temporary items). Revision of General Records Schedule 26 establishing a fixed age of destruction for files of advisory commissions, committees, councils, boards, and other groups established under the Federal Advisory Committee Act that relate to day-to-day activities and/or do not contain unique information of historical value. This schedule also revises the retention guidance for Web site records. Proposed for permanent retention are files documenting the establishment, membership, policy, organization, deliberations, findings, and recommendations of commissions and other groups established under the Federal Advisory Committee Act.

Dated: January 25, 2007.
Michael J. Kurtz,
Assistant Archivist for Records Services, Washington, DC.

[FR Doc. E7-1607 Filed 1-31-07; 8:45 am]

BILLING CODE 7515-01-P